DEPARTMENT OF TRANSPORTATION

National Highway Traffic Safety Administration

49 CFR Part 571

[Docket No. NHTSA-2002-13957]

RIN 2127-AI97

Federal Motor Vehicle Safety Standards; Lamps, Reflective Devices, and Associated Equipment

AGENCY: National Highway Traffic Safety Administration (NHTSA), Department of Transportation (DOT).

ACTION: Notice of withdrawal of rulemaking.

SUMMARY: On February 12, 2003 NHTSA published a request for comments in the Federal Register (68 FR 7101) regarding Adaptive Frontal-lighting Systems (AFS). The agency noted the automotive industry was introducing Adaptive Frontal-lighting Systems that could actively change the intensity and direction of headlamp illumination in response to changes in vehicle speed or roadway geometry, such as providing more light to the left in a left-hand curve. The agency expressed concern that such headlighting systems may cause additional glare to oncoming drivers, change the easily recognizable and consistent appearance of oncoming vehicles, and have failure modes that may cause glare for long periods of time. The agency stated it was also interested in learning whether these adaptive systems can provide any demonstrated reduction in crash risk during nighttime driving. For reasons discussed in this document, the agency is withdrawing this rulemaking.

FOR FURTHER INFORMATION CONTACT: For non-legal issues: Mr. David M. Hines, Office of Crash Avoidance Standards, Telephone number (202) 493-0245, FAX number (202) 366-7002. For legal issues: Mr. Eric Stas, Office of Chief Counsel, Telephone number (202) 366-2992, FAX number (202) 366-3820. You may send mail to either of these officials at NHTSA, 400 Seventh Street, SW., Washington, DC 20590.

SUPPLEMENTARY INFORMATION:

I. Background

The development of AFS has been ongoing for approximately a decade, although much earlier versions of such situation-adaptive headlighting were previously incorporated in vehicles sold to the public including the Tucker automobile in the United States and Citroen automobiles in Europe. The goal of current AFS is to actively control headlamp beam pattern performance to meet the dynamic illumination needs of changing roadway geometries and visibility conditions. One initial application, commonly referred to as “bending light,” automatically re-aims the lower beam headlamps to the left or right depending on the steering angle of the vehicle, with the intent to better illuminate curves in the roadway.

Motor vehicles equipped with AFS are currently being advertised and sold in the United States. This is not prohibited at the Federal level because Federal Motor Vehicle Safety Standard No. 108, Lamps, reflective devices, and associated equipment, does not specifically address the initial or subsequent aim of a headlamp in a headlighting system. The Standard addresses only aimability requirements. Further details regarding this issue are discussed in the letter from the Chief Counsel, NHTSA, to Mr. Mark Cronmiller, VDO North America, dated July 21, 1999 (available at http://www.nhtsa.dot.gov/cars/rules/interps/files/20061.ztv.html).

The agency notes that S5.3.2 of Standard No. 108 also requires that lamps and reflective devices must be installed such that their photometric requirements are met on motor vehicles and that no other part of the vehicle shall prevent that. As such, the additional hardware added to achieve AFS must not prevent headlamps, or any other required lamps, from meeting the required performance in any manner whether AFS is operating or not. Additionally, for the bending light mechanization where some of the light in the nominal beam pattern is actively redirected, the photometric requirements of the headlamp must be met regardless of active changes in the light distribution within the beam.

Comments to our published request regarding AFS were received from individuals, groups, and corporations; these responses generally addressed many of the questions the agency asked. These comments may be viewed at: http://dms.dot.gov/search/searchFormSimple.cfm (docket number 13957). Several of the comments either provided insight on or referenced studies regarding AFS. The agency also contracted with the Lighting Research Center (LRC), Rensselaer Polytechnic Institute, to study the available literature and to assess aspects of AFS technology. Results of that research will be posted on our Web site: http://www.nhtsa.dot.gov as they become available.

II. Reason for Withdrawal

After careful consideration, NHTSA has decided to withdraw this rulemaking. The agency believes further research on AFS is needed and is currently conducting research on AFS-related topics. If this research indicates a need for future rulemaking, the agency will act accordingly.

The agency arrived at this decision after reviewing the comments received and giving consideration to the findings of the LRC survey. LRC found that although a significant number of studies on AFS had been done, due to inconsistency in the metrics used and lack of information on experimental procedures and scenarios, further research is needed to quantify the effectiveness of AFS as it relates to vision improvement, as well as its contributions to glare. LRC stated that because existing reports on AFS did not supply sufficient information and did not use common performance metrics related to traffic safety, it is difficult to reproduce or validate the studies and their results. Nevertheless, the agency still considers AFS to be a potentially important technology and will continue its efforts to understand the relevant safety issues associated with its use.

Authority: 49 U.S.C. 322, 30111, 30115, 30117, and 30166; delegations of authority at 49 CFR 1.50, and 501.8.

Issued on: July 11, 2005.
Stephen R. Kratzke,
Associate Administrator for Rulemaking.

[FR Doc. 05-13959 Filed 7-14-05; 8:45 am]

BILLING CODE 4910-59-P